ENVIRONMENTAL PROTECTION AGENCY

[EPA-HQ-OW-2024-0087; FRL-11602-01-OW]

Agency Information Collection Activities; Proposed Information Collection Request; Comment Request; Urban Waters Federal Partnership Program

AGENCY: Environmental Protection Agency (EPA).

ACTION: Notice.

SUMMARY: The Environmental Protection Agency (EPA) is planning to submit an information collection request (ICR), Urban Waters Federal Partnership Program (EPA ICR Number 2801.01, OMB Control Number 2040-NEW) to the Office of Management and Budget (OMB) for review and approval in accordance with the Paperwork Reduction Act (PRA). Before doing so, the EPA is soliciting public comments on specific aspects of the proposed information collection as described below. This is a request for approval of a new collection. This notice allows for 60 days for public comments.

DATES: Comments must be submitted on or before May 28, 2024.

ADDRESSES: Submit your comments, referencing Docket ID Number EPA-HQ-OW-2024-0087, to the EPA online using www.regulations.gov (our preferred method), by email to ow-docket@epa.gov, or by mail to: EPA Docket Center, Environmental Protection Agency, Mail Code 28221T, 1200 Pennsylvania Ave. NW, Washington, DC 20460. The EPA's policy is that all comments received will be included in the public docket without change including any personal information provided, unless the comment includes profanity, threats, information claimed to be Confidential Business Information (CBI) or other information whose disclosure is restricted by statute.

FOR FURTHER INFORMATION CONTACT: Tara O'Hare, Partnership Programs Branch, Oceans, Wetlands and Communities Division, Office of Wetlands, Oceans and Watersheds, Mail Code 4504T, Environmental Protection Agency, 1200 Pennsylvania Ave. NW, Washington, DC 20460; telephone number: 202-564-8836; fax number: 202-566-1336; email address: ohare.tara@epa.gov.

SUPPLEMENTARY INFORMATION: This is a request for approval of a new collection. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. The EPA will consider the comments received and amend the ICR as appropriate. The final ICR package will then be submitted to OMB for review and approval. At that time, the EPA will issue another Federal Register notice to announce the submission of the ICR to OMB and the opportunity to submit additional comments to OMB.

Abstract: The Urban Waters Federal Partnership is a voluntary program created in 2011 that seeks to reconnect urban communities, particularly those that are overburdened or economically distressed, with their waterways to become stewards for clean urban waters. Working with a diverse set of partners, the program seeks to help communities restore and protect water quality and revitalize adjacent rural, suburban, and urban neighborhoods throughout the watershed.

As part of its strategic planning efforts, the EPA encourages programs to develop meaningful performance measures, set ambitious targets, and link budget expenditures to results. Data collected under this ICR will assist the Urban Waters Federal Partnership in demonstrating results and carrying out evaluation efforts to ensure continual program improvement. In addition, the data will help the EPA estimate the environmental and programmatic impact of the program and evaluate the health of the partnership at each location.

Form Numbers: * Forms not yet finalized in italics.

• Workplan Form 6100-084

• Annual Reporting Form 6100-085

• Partnership Evaluation Form 6100-083

Respondents/affected entities: Respondents consist of Urban Waters Federal Partnership Ambassadors and a wide variety of organizations and businesses that partner with Ambassadors at each Urban Waters Federal Partnership designated location.

Respondent's obligation to respond: voluntary.

Estimated number of respondents: 2,806 (total).

Frequency of response: Urban Waters Federal Partnership designated locations will submit a Workplan every other year. Urban Waters Federal Partnership designated locations will submit Annual Reporting Forms and Partnership Evaluation Forms each year.

Total estimated burden: 9,614 hours (per year) for both Respondents and the EPA. Burden is defined at 5 CFR 1320.03(b).

Total estimated cost: $671,346 (per year), which includes $0 annualized capital or operation & maintenance costs for both Respondents and the EPA.

Ann Ferrio,
Deputy Director, Office of Wetlands, Oceans and Watersheds.

[FR Doc. 2024-06475 Filed 3-26-24; 8:45 am]

BILLING CODE 6560-50-P